DEPARTMENT OF TRANSPORTATION

Surface Transportation Board

[STB Finance Docket No. 34161]

Lackawanna County Railroad Authority—Acquisition Exemption—Scranton Lackawanna Industrial Building Company

Lackawanna County Railroad Authority (LCRA), a political subdivision and nonoperating Class III rail carrier,¹ has filed a verified notice of exemption under 49 CFR 1150.41 to acquire 1.5 miles of track in Lackawanna County, PA, from Scranton Lackawanna Industrial Building Company.² The line, known as the Minooka Industrial Track, extends from Little Virginia Junction to the Davis Street Crossing.

¹ According to LCRA, it currently owns a 58-mile line of railroad between Fell Township and Mount Pocono, PA; the Diamond Branch of the former Delaware, Lackawanna & Western Railroad (DL&W) extending 0.85 miles from MP 144.75 to MP 145.6 in Scranton, Lackawanna County, PA; and the Laurel Line of the former DL&W extending 4.11 miles from LC 6253 MP 0.7 to MP 4.81 at Montage Road in the Borough of Moosic, Lackawanna County, PA.

² As indicated in the verified notice of exemption, the operator of the line at the time of the filing of the notice was Luzerne and Susquehanna Railway Company (L&S) pursuant to a license agreement scheduled to expire on January 10, 2002. Upon expiration of that license, L&S will discontinue its operations and will be replaced by Delaware-Lackawanna Railroad Co., Inc. (D-L).

This transaction is related to a simultaneously filed verified notice of exemption in STB Finance Docket No. 34162, Delaware-Lackawanna Railroad Co., Inc.—Change in Operators Exemption—Lackawanna County Railroad Authority.

The parties reported that they intended to consummate the transaction on or about January 10, 2002.

If the notice contains false or misleading information, the exemption is void ab initio. Petitions to revoke the exemption under 49 U.S.C. 10502(d) may be filed at any time. The filing of a petition to revoke does not automatically stay the transaction.

An original and 10 copies of all pleadings, referring to STB Finance Docket No. 34161, must be filed with the Surface Transportation Board, Office of the Secretary, Case Control Unit, 1925 K Street, NW., Washington, DC 20423-0001. In addition, a copy of each pleading must be served on Keith G. O'Brien, REA, CROSS & AUCHINCLOSS, 1707 L Street, NW., Suite 570, Washington, DC 20036.

Board decisions and notices are available on our Web site at www.stb.dot.gov.

Decided: January 22, 2002.
By the Board, David M. Konschnik, Director, Office of Proceedings.
Vernon A. Williams,
Secretary.

[FR Doc. 02-2037 Filed 1-28-02; 8:45 am]

BILLING CODE 4915-00-P